DEPARTMENT OF COMMERCE

National Oceanic and Atmospheric Administration

Availability of Seats for the Florida Keys National Marine Sanctuary Advisory Council

AGENCY: National Marine Sanctuary Program (NMSP), National Ocean Service (NOS), National Oceanic and Atmospheric Administration (NOAA), Department of Commerce (DOC).

ACTION: Notice and request for applications.

SUMMARY: The Florida Keys National Marine Sanctuary (FKNMS) is seeking applications for the following vacant seats on its Sanctuary Advisory Council (council): Boating Industry (alternate), Citizen at Large—Lower Keys (member), Citizen at Large—Lower Keys (alternate), Conservation and Environment [1 of 2] (member), Conservation and Environment [2 of 2] (alternate), Diving—Lower Keys (member), Diving—Lower Keys (alternate), Diving—Upper Keys (member), Education and Outreach (member), Fishing—Charter Fishing Flats Guide (member), Fishing—Charter Fishing Flats Guide (alternate), Fishing—Commercial—Marine/Tropical (member), Fishing—Commercial—Shell/Scale (alternate), Research and Monitoring (member), Submerged Cultural Resources (alternate), Tourism—Lower Keys (member), Tourism—Lower Keys (alternate), Tourism—Upper Keys (member), and Tourism—Upper Keys (alternate).

Applicants are chosen based upon their particular expertise and experience in relation to the seat for which they are applying; community and professional affiliations; residency in the Sanctuary area; and philosophy regarding the protection and management of marine resources. Applicants who are chosen for seats normally serve three-year terms, pursuant to the Council's charter.

DATES: Applications are due by September 21, 2007.

ADDRESSES: Application packages may be obtained from the Sanctuary Advisory Council and Volunteer Coordinator at Lilli.Ferguson@noaa.gov, from the Web site at www.floridakeys.noaa.gov, by telephone at (305) 292-0311 x245 or in writing at Florida Keys National Marine Sanctuary, 33 East Quay Rd., Key West, FL 33040. Completed applications should be sent to the same address listed above.

FOR FURTHER INFORMATION CONTACT: Lilli Ferguson at the above address, e-mail or telephone number.

SUPPLEMENTARY INFORMATION: Information concerning the council, including past meeting minutes and member contact information can be found at the sanctuary Web site.

Authority: 16 U.S.C. Sections 1431, et seq.

(Federal Domestic Assistance Catalog Number 11.429 Marine Sanctuary Program)

Dated: August 9, 2007.
Daniel J. Basta,
Director, Office of National Marine Sanctuaries, National Oceanic and Atmospheric Administration.

[FR Doc. 07-4051 Filed 8-17-07; 8:45 am]

BILLING CODE 3510-NK-M